DEPARTMENT OF EDUCATION

Office of Safe and Drug-Free Schools; Overview Information; Safe Schools/Healthy Students; Notice Inviting Applications for New Awards for Fiscal Year (FY) 2004

Catalog of Federal Domestic Assistance (CFDA) Number: 84.184L.

Dates: Applications Available: May 28, 2004.

Deadline for Transmittal of Applications: July 9, 2004.

Deadline for Intergovernmental Review: August 9, 2004.

Eligible Applicants: Local educational agencies (LEAs) or consortia of LEAs that have not received funds or services under the Safe Schools/Healthy Students (SS/HS) initiative during any previous fiscal year.

Estimated Available Funds: $42,000,000.

Estimated Range of Awards: Up to $1,000,000 per year for LEAs or consortia in rural areas and Bureau of Indian Affairs (BIA) schools; up to $2,000,000 per year for LEAs or consortia in suburban areas; and up to $3,000,000 per year for LEAs or consortia in urban areas.

Estimated Average Size of Awards: $2,000,000 per year.

Estimated Number of Awards: 20.

Note: The Department is not bound by any estimates in this notice.

Project Period: 36 months.

Full Text of Announcement

I. Funding Opportunity Description

Purpose of Program: This program provides Federal financial assistance to LEAs to implement an integrated, comprehensive community-wide plan designed to create safe and drug-free schools and promote prosocial skills and healthy childhood development in youth.

Priority: This priority is from the notice of final priority, selection criteria, requirements, and definitions, published elsewhere in this issue of the Federal Register.

Absolute Priority: For FY 2004 this priority is an absolute priority. Under 34 CFR 75.105(c)(3) we consider only applications that meet this priority.

This priority is: The implementation of an integrated, comprehensive community-wide plan designed to create safe and drug-free schools and promote prosocial skills and healthy childhood development in youth. Plans must focus activities, curricula, programs, and services in a manner that responds to all of the following six elements:

• Element One—Safe school environment—Note: No more than 10 percent of the total budget for each year may be used to support costs associated with (1) security equipment and personnel, and (2) minor remodeling of school facilities to improve school safety;

• Element Two—Alcohol and other drugs and violence prevention and early intervention programs;

• Element Three—School and community mental health preventive and treatment intervention services;

• Element Four—Early childhood psychosocial and emotional development programs;

• Element Five—Supporting and connecting schools and communities; and

• Element Six—Safe school policies.

Program Authority: Safe and Drug-Free Schools and Communities Act (20 U.S.C. 7131); Public Health Service Act (42 U.S.C. 290aa); and Juvenile Justice and Delinquency Prevention Act (42 U.S.C. 5614(b)(4)(e) and 5781 et seq.).

Applicable Regulations: (a) The Education Department General Administrative Regulations (EDGAR) in 34 CFR parts 74, 75, 77, 79, 80, 81, 82, 84, 85, 98, 99, and 299. (b) The notice of final priority, selection criteria, requirements, and definitions, published elsewhere in this issue of the Federal Register.

II. Award Information

Type of Award: Discretionary grants.

Estimated Available Funds: $42,000,000.

Estimated Range of Awards: Up to $1,000,000 per year for LEAs or consortia in rural areas and BIA schools; up to $2,000,000 per year for LEAs or consortia in suburban areas; and up to $3,000,000 per year for LEAs or consortia in urban areas.

Estimated Average Size of Awards: $2,000,000 per year.

Estimated Number of Awards: 20.

Note: The Department is not bound by any estimates in this notice.

Project Period: Up to 36 months.

III. Eligibility Information

1. Eligible Applicants: LEAs or consortia of LEAs that have not received funds or services under the SS/HS initiative during any previous fiscal year.

2. Cost Sharing or Matching: This program does not involve cost sharing or matching.

3. Other: The applicant must include in its application two memoranda of agreement demonstrating the commitment of the required SS/HS partners. Two agreements must be signed by the required partners (as described in paragraphs (a) and (b)) and dated no earlier than six months prior to the SS/HS application deadline. Applicants must also include information in the application that supports the selection of the identified local law enforcement and juvenile justice partner and describe how those partners' activities will support and be integrated in the SS/HS strategy. Applicants must contact their State Department of Mental Health to identify the relevant local public mental health authority. Mental health entities that have no legal authority in the administrative oversight of the delivery of mental health services are not acceptable as the sole mental health partner. Each SS/HS application must include the local public mental health authority as a partner. (The local public mental health authority is not required to provide mental health services to the target population but must provide administrative control or oversight of the delivery of mental health services.)

(a) The first of these two agreements is the Memorandum of Agreement for the SS/HS Partners. This agreement must contain the signatures of the school superintendent and authorized representatives for the local public mental health authority and local law enforcement and juvenile justice agencies. This agreement must include the following information: A mission statement for the SS/HS partnership; the goals and objectives of the partnership; desired outcomes for the partnership; a description of how information will be shared among partners; and a description of the roles and responsibilities of each partner. Applicants submitting as a consortium of LEAs must demonstrate partnership with the relevant local law enforcement agency (or agencies), public mental health authority (or authorities) and juvenile justice agency (or agencies) for each of the participating LEAs in the consortium. Applicants must indicate those instances where a local law enforcement agency, public mental health authority, or juvenile justice agency has authority or jurisdiction for one or more of the participating LEAs in the consortium.

(b) The second of these two agreements is the Memorandum of Agreement for Mental Health Services. This agreement must contain the signatures of the school superintendent and the authorized representative of the local public mental health authority. The local public mental health authority must agree to provide administrative control and/or oversight of the delivery of mental health services. This agreement also must state procedures to be used for referral, treatment, and follow-up for children and adolescents with serious mental health problems. Applicants submitting as a consortium of LEAs must demonstrate partnership with the relevant public mental health authority (or authorities) for each of the participating LEAs in the consortium. Applicants must indicate those instances where a local public mental health authority has authority/jurisdiction for one or more of the participating LEAs in the consortium.

4. Equitable Participation of Private Schools: LEAs that receive an SS/HS grant are required to provide for the equitable participation of private school children, their teachers, and other educational personnel in private schools located in areas served by the grant recipient. In order to ensure that grant program activities address the needs of private school children, the LEA must engage in timely and meaningful consultation with private school officials during the design and development of the program. This consultation must take place before any decision is made that affects the opportunities of eligible private school children, teachers, and other educational personnel to participate. Administrative direction and control over grant funds must remain with the grantee.

In order to ensure equitable participation of private school children, teachers and other educational personnel, the LEA must consult with private school officials on issues such as: How children's needs will be identified; what services will be offered; how and where the services will be provided; who will provide the services; how the services will be assessed and how the results of assessment will be used to improve those services; the amount of funds available for services; the size and scope of the services to be provided; how and when decisions about the delivery of services will be made; and the provision of contract services through potential third-party providers.

See Section 9501 of the Elementary and Secondary Education Act as reauthorized by the No Child Left Behind Act of 2001.

5. Maintenance of Effort: An LEA may receive an SS/HS grant only if the State Educational Agency finds that the combined fiscal effort per student or the aggregate expenditures of the LEA and the state with respect to the provision of public education by the LEA for the preceding fiscal year was not less than 90 percent of the combined fiscal effort or aggregate expenditures for the second preceding fiscal year.

IV. Application and Submission Information

1. Address To Request Application Package: Karen Dorsey, U.S. Department of Education, 400 Maryland Avenue, SW., room 3E347, Washington, DC 20202-6450. Telephone: (202) 708-4674 or by e-mail: Karen.Dorsey@ed.gov.

If you use a telecommunications device for the deaf (TDD), you may call the Federal Information Relay Service (FIRS) at 1-800-877-8339.

Individuals with disabilities may obtain a copy of the application package in an alternative format (e.g., Braille, large print, audiotape, or computer diskette) by contacting the program contact person listed in this section.

2. Content and Form of Application Submission: Requirements concerning the content of an application, together with the forms you must submit, are in the application package for this program.

Page Limit: The application narrative is where you, the applicant, address the selection criteria that reviewers use to evaluate your application. An application's narrative must be limited to the equivalent of no more than 40 pages and must adhere to the following standards:

• A “page” is 8.5″ by 11″, on one side only, with 1″ margins at the top, bottom, and both sides.

• All text in the application narrative must be double spaced (no more than three lines per vertical inch) including titles, headings, footnotes, quotations, references, and captions, as well as all text in charts, tables, figures and graphs.

• Text must be presented in a 12-point Courier New font.

• All pages must be consecutively numbered using the style 1 of 40, 2 of 40, etc.

The page limit does not apply to the cover sheet, project abstract, budget forms and worksheets, or the required attachments.

Our reviewers will not read any pages of your application that—

• Exceed the page limit if you apply these standards; or

• Exceed the equivalent of the page limit if you apply other standards.

3. Submission Dates and Times:

Applications Available: May 28, 2004.

Deadline for Transmittal of Applications: July 9, 2004.

The dates and times for the transmittal of applications by mail or by hand (including a courier service or commercial carrier) are in the application package for this program.

We do not consider an application that does not comply with the deadline requirements.

Deadline for Intergovernmental Review: August 9, 2004.

4. Intergovernmental Review: This program is subject to Executive Order 12372 and the regulations in 34 CFR part 79. Information about Intergovernmental Review of Federal Programs under Executive Order 12372 is in the application package for this program.

5. Funding Restrictions: No less than 7 percent of a grantee's budget for each year may be used to support costs associated with local evaluation activities. No more than 10% of the total budget for each year may be used to support costs associated with (1) security equipment and personnel, and (2) minor remodeling of school facilities to improve school safety.

An applicant's request for funding must not exceed the maximum amount established for its defined urbanicity. The maximum amount for SS/HS funds is $3 million for urban schools for a 12-month period; $2 million for suburban schools for a 12-month period; and $1 million for rural LEAs and BIA schools for a 12-month period. To determine urbanicity and the maximum amount they are eligible to apply for, all applicants except BIA schools must use the district locale code on the National Public School and School District Locator website (available online at www.nces.ed.gov/ccd/districtsearch) and the definitions established in the notice of final priority, selection criteria, requirements, and definitions for the SS/HS program, published elsewhere in this issue of the Federal Register, for rural, suburban and urban to determine urbanicity. A BIA school's request must not exceed $1 million.

We reference additional regulations outlining funding restrictions in the Applicable Regulations section of this notice.

6. Other Submission Requirements: Instructions and requirements for the transmittal of applications by mail or by hand (including a courier service or commercial carrier) are in the application package for this program.

V. Application Review Information

1. Selection Criteria: The selection criteria for this competition are in the application package.

2. Review and Selection Process: Additional factors we consider in selecting an application for an award are: (1) Geographic distribution and diversity of activities addressed by the projects; and (2) equitable distribution of grants among urban, suburban, and rural local educational agencies.

VI. Award Administration Information

1. Award Notices: If your application is successful, we notify your U.S. Representative and U.S. Senators and send you a Grant Award Notice (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: Semi-annually, you must submit a performance report, which includes reporting on expenditures, as specified by the Secretary in 34 CFR 75.720. At the end of your project, you must submit a final performance and local evaluation reports.

4. Performance Measures: Under the Government Performance and Results Act (GPRA), we have developed four measures for evaluating the overall effectiveness of the SS/HS initiative: (1) SS/HS grant sites will experience a decrease in the number of violent incidences at schools during the 3-year grant period; (2) SS/HS grant sites will experience a decrease in substance use during the 3-year grant period; (3) SS/HS grant sites will improve school attendance during the 3-year grant period; and (4) SS/HS grant sites will increase mental health services to students and families during the 3-year grant period.

These measures constitute the Department's indicators of success for this initiative. Consequently, applicants for a grant under this program are advised to give careful consideration to these four measures in conceptualizing the design, implementation, and evaluation for their proposed project. If funded, applicants will be asked to collect and report data annually to document their success in addressing these performance measures.

VII. Agency Contact

For Further Information Contact: Karen Dorsey, U.S. Department of Education, 400 Maryland Avenue, SW., room 3E347, Washington, DC 20202-6450. Telephone: (202) 708-4674 or by e-mail: Karen.Dorsey@ed.gov.

If you use a telecommunications device for the deaf (TDD), you may call the Federal Information Relay Service (FIRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: www.ed.gov/news/fedregister

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: www.gpoaccess.gov/nara/index.html.

Dated: May 24, 2004.
Deborah A. Price,
Deputy Under Secretary for Safe and Drug-Free Schools.

[FR Doc. 04-12075 Filed 5-27-04; 8:45 am]

BILLING CODE 4000-01-P